DEPARTMENT OF TRANSPORTATION

Federal Aviation Administration

14 CFR Part 71

[Docket No. FAA-2012-0433; Airspace Docket No. 12-AAL-5]

Establishment of Class D Airspace; Bryant AAF, Anchorage, AK

AGENCY: Federal Aviation Administration (FAA), DOT.

ACTION: Final rule.

SUMMARY: This action establishes Class D airspace at Bryant Army Airfield (AAF), Anchorage AK. This action provides controlled airspace to improve the safety and management of aircraft operations at the airport due to an increase in the complexity, volume, and variety of aircraft in the immediate vicinity of Bryant AAF.

DATES: Effective date, 0901 UTC, October 17, 2013. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA, 98057; telephone (425) 203-4517.

SUPPLEMENTARY INFORMATION:

History

On August 22, 2012, the FAA published in the Federal Register a notice of proposed rulemaking (NPRM) to establish Class D airspace at Bryant AAF, Anchorage AK (77 FR 50646). Interested parties were invited to participate in this rulemaking effort by submitting written comments on the proposal to the FAA. Thirteen comments were received.

The commenters were concerned that the creation of Class D airspace east of the Glenn Highway might compress traffic using the Eastside VFR flyway, adversely affect pilots' situational awareness, and questioned the availability of weather information at Fort Richardson. The FAA found merit in some of these comments and issued a supplemental notice of proposed rulemaking to establish Class D airspace at Bryant AAF, Anchorage, AK, but would eliminate that portion east of Glenn Highway (FR 78 34608, June 10, 2013). Interested parties were invited to participate in this rulemaking effort by submitting written comments on the proposal to the FAA. Fourteen comments were received, all in support of the supplemental proposal. Subsequent to publication of the SNPRM, the FAA found that a digit was left off the first set of coordinates, and is corrected in the rule.

Class D airspace designations are published in paragraph 5000 of FAA Order 7400.9W, dated August 8, 2012, and effective September 15, 2012, which is incorporated by reference in 14 CFR 71.1. The Class D airspace designation listed in this document will be published subsequently in this Order.

The Rule

This action amends Title 14 Code of Federal Regulations (14 CFR) Part 71 by establishing Class D airspace extending upward to and including 2,900 feet MSL at Bryant AAF, Anchorage, AK. This action provides controlled airspace due to an increase in the complexity, volume and variety of aircraft in the immediate vicinity of the airport and improves the safety of and management of aircraft operations. A typographical error is corrected in the regulatory text for the first set of coordinates, changing it from “lat. 61°17″3′ ” to “lat. 61° 17″13′ ”.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Bryant AAF, Anchorage, AK.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012 is amended as follows:

Paragraph 5000 Class D Airspace

* * * * *

AAL AK D Bryant Army Airfield, Anchorage AK [NEW]

Bryant AAF, AK

(Lat. 61°15′57″ N., long. 149°39′12″ W.)

That airspace extending upward from the surface to and including 2,900 feet MSL within an area bounded by a line beginning at lat. 61°17′13″ N., long. 149°37′35″ W.; to lat. 61°17′13″ N., long. 149°43′08″ W.; to lat. 61°13′49″ N., long. 149°43′08″ W.; to lat. 61°13′54″ N., long. 149°42′44″ W.to lat. 61°14′24″ N., long. 149°41′23″ W.; to lat. 61°15′54″ N., long. 149°38′20″ W.; thence to the point of beginning.

Issued in Seattle, Washington, on July 26, 2013.
Clark Desing,
Manager, Operations Support Group, Western Service Center.

[FR Doc. 2013-18866 Filed 8-7-13; 8:45 am]

BILLING CODE 4910-13-P